DEPARTMENT OF LABOR

Employment and Training Administration

[TA-W-62,438]

Chrysler LLC, St. Louis South Assembly Division, Including On-Site Leased Workers From HAAS TCM, Inc., Fenton, MO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on December 14, 2007, applicable to workers of Chrysler LLC, St. Louis South Assembly Division, Fenton, Missouri. The notice was published in the Federal Register on December 31, 2007 (72 FR 74343).

At the request of the petitioner, the Department reviewed the certification for workers of the subject firm. The workers assemble Chrysler Town and Country mini-van, and the Dodge Grand Caravan mini-van.

New information shows that workers leased workers from HAAS TCM, Inc. were employed on-site at the Fenton, Missouri location of Chrysler LLC, St. Louis South Assembly Division. The Department has determined that these workers were sufficiently under the control of Chrysler LLC, St. Louis South Assembly Division to be considered leased workers.

Based on these findings, the Department is amending this certification to include workers leased from HAAS TCM, Inc. working on-site at the Fenton, Missouri location of the subject firm.

The intent of the Department's certification is to include all workers employed at Chrysler LLC, St. Louis South Assembly Division, Fenton, Missouri who were adversely affected by increased imports of Chrysler Town and Country mini-van and the Dodge Grand Caravan mini-van.

The amended notice applicable to TA-W-62,438 is hereby issued as follows:

”All workers of Chrysler LLC, St. Louis South Assembly Division, including on-site leased workers from HAAS TCM, Inc., Fenton, Missouri, who became totally or partially separated from employment on or after November 7, 2006, through December 14, 2009, are eligible to apply for adjustment assistance under Section 223 of the Trade Act of 1974, and are also eligible to apply for alternative trade adjustment assistance under Section 246 of the Trade Act of 1974.“

Signed at Washington, DC, this 18th day of November 2008.
Richard Church,
Certifying Officer, Division of Trade Adjustment Assistance.

[FR Doc. E8-28354 Filed 11-28-08; 8:45 am]

BILLING CODE 4510-FN-P